DEPARTMENT OF COMMERCE

National Oceanic and Atmospheric Administration

RIN 0648-XF600

Draft Environmental Impact Statement for Issuing Annual Catch Limits to the Alaska Eskimo Whaling Commission

AGENCY: National Marine Fisheries Service (NMFS), National Oceanic and Atmospheric Administration (NOAA), Commerce.

ACTION: Notice of availability of a draft Environmental Impact Statement; request for comments.

SUMMARY: NMFS announces the availability of a draft environmental impact statement (EIS) pursuant to the National Environmental Policy Act of 1969 (NEPA), in order to assess the impacts of issuing annual catch limits for the subsistence harvest of bowhead whales by Alaska Natives from 2019 onward. The official 60-day comment period for comments on the draft EIS began on June 1, 2018 and will end on July 31, 2018.

DATES: Comments on this draft EIS must be received no later than July 31, 2018.

ADDRESSES: Submit your comments on this draft environmental impact statement, by including NOAA-NMFS-2017-0098 by either of the following methods:

• Federal e-Rulemaking Portal: Go to http://www.regulations.gov/#!docketDetail;D=NOAA-NMFS-2017-0098. Click the “Comment Now!” icon, complete the required fields, and enter or attach your comments.

• Mail: Carolyn Doherty, Office of International Affairs and Seafood Inspection, NOAA Fisheries, 1315 East-West Highway, Silver Spring, MD 20910. Instructions: NMFS may not consider comments if they are sent by any other method, to any other address or individual, or received after the comment period ends at 11:59 p.m. eastern time on the date of comment period closure.

Instructions: All comments received are a part of the public record and will generally be posted to www.regulations.gov without change. For posted comments, all personal identifying information (e.g., name, address, etc.), confidential business information, or otherwise sensitive information submitted voluntarily by the sender is publicly accessible. NMFS will accept anonymous comments (enter “N/A” in the required fields if you wish to remain anonymous). Attachments to electronic comments will be accepted in Microsoft Word, Excel, WordPerfect, or Adobe portable document file (PDF) formats only.

FOR FURTHER INFORMATION CONTACT: Carolyn Doherty, Office of International Affairs and Seafood Inspection, NOAA Fisheries (phone: 301-427-8385 or email: Carolyn.Doherty@noaa.gov).

SUPPLEMENTARY INFORMATION: NMFS is preparing an EIS in order to comprehensively assess impacts of the subsistence harvest of Western Arctic bowhead whales by Alaska Natives from 2019 onward. The draft EIS is posted on the NOAA Fisheries' Alaska Regional Office's web page at https://alaskafisheries.noaa.gov/pr/whales-bowhead.

Background

Alaska Natives have hunted bowhead whales for over 2,000 years as the whales migrate in the spring and fall along the coast of Alaska. Their traditional subsistence hunts for these whales have been regulated by catch limits and other limitations under the authority of the International Whaling Commission (IWC) since 1977. Alaska Native subsistence hunters from 11 northern Alaskan communities take less than 1 percent of the stock of bowhead whales per year. Since 1977, the number of whales struck by harpoons has ranged between 14 and 72 animals per year, depending in part on changes in IWC management strategy due to higher estimates of both bowhead whale abundance and increased hunter efficiency in recent years. The IWC sets an overall aboriginal subsistence catch limit for this stock, based on the request of IWC member countries on behalf of the aboriginal hunters. The IWC's catch limit for bowhead whales includes a limit on the number of landed whales and a limit on the number of whales that may be struck. In the case of Alaska and Russian Native subsistence hunts, the United States and the Russian Federation make a joint request to the IWC for subsistence catch limits for bowhead whales.

NMFS must annually publish a notice of aboriginal subsistence whale hunting catch limits and any other limitations on such hunting in the Federal Register (50 CFR 230.6). The subsistence hunt is directly managed by the Alaska Eskimo Whaling Commission (AEWC) and the catch limits are issued through annual amendments to a cooperative agreement between the AEWC and NOAA, consistent with the mandates codified in the Whaling Convention Act, 16 U.S.C. 916-916l.

In order to comprehensively assess the effects of these annual removals, this proposed action would extend from 2019 onward, subject to IWC-set catch limits. IWC-set catch limits are, in turn, based on IWC Scientific Committee advice on the sustainability of proposed catch limits using a population model, referred to as a Strike Limit Algorithm. The Strike Limit Algorithm used by the IWC is specific to this population of bowhead whales and is the IWC's formula for calculating sustainable aboriginal subsistence whaling removal levels, based on the size and productivity of a whale population, in order to satisfy subsistence need. The Strike Limit Algorithm also allows for an inter-annual variation of strikes up to 50 percent of the annual strike limit in order to provide flexibility for the hunt while meeting the Commission's conservation objectives.

Alternatives Considered

NMFS considered five alternatives in the draft EIS:

Alternative 1 (no action): Do not grant the AEWC a catch limit.

Alternative 2: Grant the AEWC an annual strike limit of 67 bowhead whales, not to exceed a total of 336 landed whales over any 6-year period, with no unused strikes from previous years added to the subsequent annual limit as carry-forward.

Alternative 3: Grant the AEWC an annual strike limit of 67 bowhead whales, not to exceed a total of 336 landed whales over any 6-year period, with unused strikes from previous years carried forward and added to the annual strike limit of subsequent years (subject to limits), provided that no more than 15 additional strikes are added to any one year's allocation of strikes. This alternative would maintain the status quo for any 6-year period with respect to management of the hunt.

Alternative 4 (Preferred Alternative): Grant the AEWC an annual strike limit of 67 bowhead whales, not to exceed a total of 336 landed whales over any 6-year period, with unused strikes from previous years carried forward and added to the annual strike quota of subsequent years (subject to limits), provided that no more than 50 percent of the annual strike limit is added for any one year. This alternative would maintain the status quo for any 6-year period with respect to management of the hunt for landed whales and employ the Commission's agreed-upon 50 percent carryover principle. The agency has identified Alternative 4 as its preferred alternative because it best meets the purpose and need of this action, and it achieves the socio-cultural benefits of the subsistence hunt at minimal environmental cost.

Alternative 5: Grant the AEWC an annual strike limit of 100 bowhead whales, not to exceed a total of 504 landed whales over any 6-year period, with unused strikes from previous years carried forward and added to the annual strike quota of subsequent years (subject to limits), provided that no more than 50 percent of the annual strike limit is added for any one year. This alternative would increase the harvest levels by 50 percent and employ the Commission's agreed-upon 50 percent carryover principle. Under this alternative, NMFS would authorize a higher level of harvest, given: (1) The timeframe for NMFS's proposed action, i.e., from 2019 onward, where it is likely that the AEWC's subsistence need for bowhead whales will increase over this timeframe; and (2) the increasing size of the Western Arctic bowhead whale population. As with the other alternatives, NMFS's issuance of any future catch limits will be subject to IWC requirements, which, in turn, will be based on IWC Scientific Committee advice on the sustainability of those catch limits.

NMFS decided to prepare an EIS rather than an EA in order to assess the impacts of issuing annual quotas for the subsistence hunt by Alaska Natives from 2019 onward. This decision was not based on any new determination that significant effects occur as a result of the bowhead subsistence hunt, but rather to take advantage of the greater transparency and public involvement in decision-making afforded through an EIS process.

Major issues addressed in this draft EIS include: The impact of subsistence removal of bowhead whales from the Western Arctic stock of bowhead whales; the impacts of these harvest levels on the traditional and cultural values of Alaska Natives, and the cumulative effects of the action when considered along with environmental conditions and past, present, and future actions potentially affecting bowhead whales.

Public Comment

The publication date of the Environmental Protection Agency's Notice of Availability of the draft EIS, June 1, 2018, 83 FR 25451, constitutes the start of the comment period under NEPA for the draft EIS. The public comment period will end on July 31, 2018, per 83 FR 26665. NOAA encourages all parties with an interest in or who are affected by the Alternatives described in the draft EIS to provide suggestions and comments. Comments are specifically requested regarding the range of alternatives assessed, scope of analysis, and assessment of direct, indirect, and cumulative impacts.

The official public comment period is 60 days, from June 1, 2018 until July 31, 2018. The draft EIS is posted on the NOAA Fisheries' Alaska Regional Office's web page at https://alaskafisheries.noaa.gov/pr/whales-bowhead.

Authority

The preparation of this draft EIS was conducted under the authority and in accordance with the requirements of NEPA, Council on Environmental Quality Regulations (40 CFR parts 1500-1508), other applicable Federal laws and regulations, and policies and procedures of NMFS for compliance with those regulations.

Dated: June 8, 2018.
John Henderschedt,
Director, Office of International Affairs and Seafood Inspection, National Marine Fisheries Service.

[FR Doc. 2018-12734 Filed 6-13-18; 8:45 am]

BILLING CODE 3510-22-P